DEPARTMENT OF TRANSPORTATION

Federal Aviation Administration

[Summary Notice No. PE-2006-28]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before September 14, 2006.

ADDRESSES: You may submit comments [identified by DOT DMS Docket Number FAA-2001-11080 and FAA-2006-24521] by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 am and 5 pm, Monday through Friday, except Federal Holidays.

Docket: For access to the docket to read background documents or comments received, go to http://dms.dot.gov at any time or to Room PL-401 on the plaza level of the Nassif Building, 400 Seventh Street, SW., Washington, DC, between 9 am and 5 pm, Monday through Friday, except Federal Holidays.

FOR FURTHER INFORMATION CONTACT: John Linsenmeyer (202) 267-5174 or Sue Lender (202) 267-8029, Office of Rulemaking (ARM-1), Federal Aviation Administration, 800 Independence Avenue, SW., Washington, DC 20591.

This notice is published pursuant to 14 CFR 11.85 and 11.91.

Issued in Washington, DC, on August 16, 2005.
Anthony F. Fazio,
Director, Office of Rulemaking.

Petitions for Exemption

Docket No.: FAA-2001-11080.

Petitioner: Experimental Aircraft Association, Inc.

Section of 14 CFR Affected: 14 CFR 91.319(h).

Description of Relief Sought: To extend the scope of Exemption No. 7162, as amended, to use aircraft certificated under § 21.191(i) for flight training and flight reviews, and to authorize Mr. Charles Burgoon to conduct weight-shift-control (WSC) flight training and practical tests in N394GS, an aircraft certificated as a fixed-wing aircraft.

Docket No.: FAA-2006-24521.

Petitioner: Aero Sports Connection.

Section of 14 CFR Affected: 14 CFR 21.190(b), 21.191(i)(1), 21.191(i)(2)(iii), 21.191(i)(3), and 61.303(b).

Description of Relief Sought: To allow certification of certain lighter-than-air aircraft as light-sport aircraft. The petitioner proposes a “community-wide” exemption to operate these aircraft at weights that are higher than those allowed for lighter-than-air aircraft certificated as light-sport aircraft.

[FR Doc. E6-14130 Filed 8-24-06; 8:45 am]

BILLING CODE 4910-13-P